DEPARTMENT OF TRANSPORTATION

Federal Aviation Administration

14 CFR Part 39

[Docket No. FAA-2009-0952; Directorate Identifier 2009-SW-04-AD; Amendment 39-16055; AD 2009-22-04]

RIN 2120-AA64

Airworthiness Directives; Eurocopter France (ECF) Model EC 155B and EC155B1 Helicopters

AGENCY: Federal Aviation Administration (FAA), Department of Transportation (DOT).

ACTION: Final rule; request for comments.

SUMMARY: We are adopting a new airworthiness directive (AD) for the specified ECF model helicopters. This AD results from a mandatory continuing airworthiness information (MCAI) AD issued by the European Aviation Safety Agency (EASA), which is the Technical Agent for the Member States of the European Community. The MCAI AD states that freezing of the route display on the navigation display (ND) in the Sector mode occurs for flight plans that include procedures in the terminal zone (departure or arrival). The MCAI AD prohibits the use of the UNS-1D navigation system (also known as the Flight Management System (FMS)) for Standard Instrument Departure (SID), Standard Instrument Terminal Arrival Route (STAR), and instrument approach procedures. The actions are intended to prevent the flight crew from relying on a frozen route ND, unanticipated increases in flight crew workload, pilot confusion in the terminal airspace environment, and subsequent loss of control of the helicopter.

DATES: This AD becomes effective on November 12, 2009.

We must receive comments on this AD by December 28, 2009.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone 800-232-0323, fax (972) 641-3710 or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, George Schwab, ASW-111, Aviation Safety Engineer, Rotorcraft Directorate, Safety Management Group, 2601 Meacham Blvd., Fort Worth, Texas 76137, telephone (817) 222-5114, fax (817) 222-5961.

SUPPLEMENTARY INFORMATION:

Discussion

EASA, which is the Technical Agent for the Member States of the European Community, has issued EASA AD No. 2009-0035-E, dated February 18, 2009, to correct an unsafe condition for the Model EC 155 B and B1 helicopters.

The route display on the ND in the Sector mode is no longer refreshed if the flight plan, processed and transmitted by the UNS-1D FMS, contains a procedure that includes a holding pattern or a Distance Measurement Equipment arc. Only the route display on the ND in the Sector mode is affected. The navigation and guidance parameter displays on the ND, the flight plan display on the UNS-1D, and the coupling to the autopilot are not affected. Freezing of the route display only occurs for flight plans that include procedures in the terminal zone (departure and arrival). If not corrected, unanticipated freezing of the route display during operations under IFR conditions, particularly during instrument meteorological conditions, would result in a significant increase in flight crew workload, causing pilot confusion in the more crowded terminal airspace environment and affecting the safety of the helicopter and its occupants. For those reasons, the MCAI AD prohibits the use of the UNS-1D navigation system for SID and STAR procedures. The Rotorcraft Flight Manual (RFM) currently prohibits the use of the GPS for approach procedures.

You may obtain further information by examining the MCAI AD and any related service information in the AD docket.

Related Service Information

Eurocopter has issued an Emergency Alert Service Bulletin No. 04A008, dated February 17, 2009. The service information specifies prohibiting the use of the UNS-1D navigation system for SID and STAR and for instrument approach procedures. The actions described in the MCAI AD are intended to correct the same unsafe condition as that identified in the service information.

FAA's Evaluation and Unsafe Condition Determination

These helicopters have been approved by the aviation authority of France and are approved for operation in the United States. Pursuant to our bilateral agreement with France, EASA, their technical agent, has notified us of the unsafe condition described in the MCAI AD. We are issuing this AD because we evaluated all information provided by EASA and determined the unsafe condition exists and is likely to exist or develop on other helicopters of these same type designs.

Differences Between This AD and the MCAI AD

We state the actions in this AD rather than referencing the Eurocopter Emergency Alert Service Bulletin for installing the placard. Also, we allow the limitations to be made by making pen and ink changes to the Limitations section of the RFM.

Costs of Compliance

We estimate that this AD will affect about 5 helicopters of U.S. registry. We also estimate that it will take about ¼ work-hour per helicopter to install the placard and amend the RFM. The average labor rate is $80 per work-hour. Required parts will cost about $5 per helicopter. Based on these figures, we estimate the cost of this AD on U.S. operators will be $125.

FAA's Determination of the Effective Date

An unsafe condition exists that requires the immediate adoption of this AD. We find the risk to the flying public justifies waiving notice and comment prior to adopting this rule because of the short compliance time and the failure of the ND display in the Sector mode that would likely result in a significant increase in flight crew workload, pilot confusion, and subsequent loss of control of the helicopter. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-0952; Directorate Identifier 2009-SW-04-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-22-04 Eurocopter France: Amendment 39-16055. Docket No. FAA-2009-0952; Directorate Identifier 2009-SW-04-AD.

Effective Date

(a) This airworthiness directive (AD) becomes effective on November 12, 2009.

Other Affected ADs

(b) None.

Applicability

(c) This AD applies to Model EC 155B and EC155B1 helicopters, all serial numbers, with the UNS-1D navigation system installed, certificated in any category.

Reason

(d) The mandatory continuing airworthiness information (MCAI) AD states that freezing of the route display on the navigation display in the Sector mode of the UNS-1D Flight Management System occurs when flight plans include procedures in the terminal zone (departure or arrival).

Actions and Compliance

(e) Before further flight, unless already accomplished, do the following:

(1) Make pen and ink changes, or insert a copy of this AD or an amended copy of Rotorcraft Flight Manual Supplement (RFM) 58 into the operating limitations section of the RFM with the following limitation: “USING FMS FOR SIDS, STARS AND INSTRUMENT APPROACHES IS PROHIBITED.”

(2) Make a placard with black letters on white background with the following wording: “USING FMS FOR SIDS, STARS AND INSTRUMENT APPROACHES IS PROHIBITED.” Install the placard on the console in place of the placard “USING GPS FOR INSTRUMENT APPROACHES IS PROHIBITED.”

Differences Between This AD and the MCAI AD

(f) We state the actions in this AD rather than referencing the Emergency Alert Service Bulletin for installing the placard. Also, we allow the limitations to be made by making pen and ink changes to the Limitations section of the RFM.

Other Information

(g) Alternative Methods of Compliance (AMOCs): The Manager, Safety Management Group, ATTN: DOT/FAA Southwest Region, George Schwab, ASW-111, Aviation Safety Engineer, Rotorcraft Directorate, 2601 Meacham Blvd., Fort Worth, Texas 76137, telephone (817) 222-5114, fax (817) 222-5961, has the authority to approve AMOCs for this AD, if requested using the procedures found in 14 CFR 39.19.

(h) Ferry flight permits are not permitted.

Related Information

(i) European Aviation Safety Agency (EASA) MCAI AD No. 2009-0035-E, dated February 18, 2009, and Eurocopter Emergency Alert Service Bulletin 04A008, dated February 17, 2009, contain related information.

Joint Aircraft System/Component (JASC) Tracking Code

(j) JASC Code 3460 Navigation—UNS-1D Navigation System—Limitation.

Issued in Fort Worth, Texas, on September 16, 2009.
Larry M. Kelly,
Acting Manager, Rotorcraft Directorate, Aircraft Certification Service.

[FR Doc. E9-25441 Filed 10-27-09; 8:45 am]

BILLING CODE 4910-13-P